DEPARTMENT OF TRANSPORTATION

Federal Aviation Administration

Public Notice for Waiver of Aeronautical Land-Use Assurance

AGENCY: Federal Aviation Administration (FAA), DOT.

ACTION: Notice of intent of waiver with respect to land; Indianapolis International Airport, Indianapolis, Indiana.

SUMMARY: The Federal Aviation Administration (FAA) is considering a proposal to change a portion of the airport from aeronautical use to non-aeronautical use and to authorize the release of 16.975 acres of airport property for non-aeronautical development. The land consists of fifty-four (54) original airport acquired parcels. These parcels were acquired under grants: 3-18-0038-24, 3-18-0038-38, 3-18-0038-39, 3-18-0038-41, 3-18-0038-43, 3-18-0038-45, 3-18-0038-47, 3-18-0038-54 or without federal participation. The future use of the property is for commercial and industrial development.

There are no impacts to the airport by allowing the Indianapolis Airport Authority to dispose of the property.

The land is not needed for aeronautical use. Approval does not constitute a commitment by the FAA to financially assist in the sale or lease of the subject airport property nor a determination of eligibility for grant-in-aid funding from the FAA.

In accordance with section 47107(h) of Title 49, United States Code, this notice is required to be published in the Federal Register 30 days before modifying the land-use assurance that requires the property to be used for an aeronautical purpose.

DATES: Comments must be received on or before January 5, 2017.

ADDRESSES: Documents are available for review by appointment at the FAA Chicago Airports District Office, Melanie Myers, Program Manager, 2300 East Devon Avenue, Des Plaines, IL 60018, Telephone: (847) 294-7525/Fax: (847) 294-7046 and Eric Anderson, Indianapolis Airport Authority, 7800 Col. H. Weir Cook Memorial Drive, Indianapolis, IN 46241; (317) 487-5135.

Written comments on the Sponsor's request must be delivered or mailed to: Melanie Myers, Program Manager, Federal Aviation Administration, Chicago Airports District Office, 2300 East Devon Avenue, Des Plaines, IL 60018, Telephone Number: (847) 294-7525/FAX Number: (847) 294-7046.

FOR FURTHER INFORMATION CONTACT: Melanie Myers, Program Manager, Federal Aviation Administration, Chicago Airports District Office, 2300 East Devon Avenue, Des Plaines, IL 60018, Telephone Number: (847) 294-7525/FAX Number: (847) 294-7046.

SUPPLEMENTARY INFORMATION:

Tract 1

Part of the Northwest Quarter of Section 13, Township 15 North, Range 2 East in Marion County, Indiana including Lots numbered 175, 176, 177, 178, 179, 180, 181, 182, 201, 202, 203, 204, 205, 206, 207, 208, 209, 210, 211, 212, 213, 214, 215, 216, 217, 218, 219, and 220 and parts of Lots Numbered 168, 169, 170, 171, 172, 173, 174, and 221, part of Fruitdale Avenue, part of the first and second North-South alleys East of High School Road, part of the East-West alley along the North right of way line of the CSX Railroad, and part of the alley located across the Southwest corner of Lot 174 in Arthur V. Brown's Second Section Western Heights, an Addition to the City of Indianapolis, as per plat thereof recorded in Plat Book 15, page 152, in the Office of the Recorder of Marion County, Indiana, the perimeter of which is more particularly described as follows:

Commencing at the Southwest corner (IAA Monument 13-0) of the Northwest Quarter of Section 13, Township 15 North Range 2 East; thence North 00 degrees 05 minutes 40 seconds East (all bearings are based on the Indiana State Plane Coordinate system, East Zone (NAD83)) along the West line of said Northwest Quarter 723.22 feet to the Northwest corner of land described in Instrument No. 98-13698, recorded in said recorder's office; thence North 89 degrees 07 minutes 34 seconds East along the North line of said described land 35.00 feet to the POINT OF BEGINNING; thence continuing North 89 degrees 07 minutes 34 seconds East along said North line and the North line of land described in Instrument No. 95-59918, recorded in said recorder's office 425.00 feet to the East right-of-way line of Fruitdale Avenue; thence North 00 degrees 05 minutes 40 seconds East along said right-of-way line 75.78 feet to the Northwest corner of said Lot 201; thence North 89 degrees 07 minutes 34 seconds East along the North line of said lot and the Easterly extension thereof 214.00 feet to the East line of a 14 foot alley and the Southwest corner of said Lot 220; thence North 00 degrees 05 minutes 40 seconds East along said East line 120.00 feet to the Northwest corner of said Lot 221; thence North 89 degrees 07 minutes 34 seconds East along the North line of said Lot 221 a distance of 50.00 feet to the Northeast corner of land described in Instrument No. 1997-0051847, recorded in said Recorder's Office; thence South 00 degrees 05 minutes 40 seconds West along the East line of said described land 50.00 feet to the Southeast corner thereof and the North line of said Lot 220; thence North 89 degrees 07 minutes 34 seconds East along said North line 150.00 feet to the West right of way line of Vinewood Avenue; thence South 00 degrees 05 minutes 40 seconds West along said West right of way line 621.64 feet to the North right of way line of the CSX Railroad: Thence South 72 degrees 46 minutes 12 seconds West along said North right of way line 809.84 feet to the centerline of a 14 foot alley; thence North 23 degrees 34 minutes 07 seconds West along said centerline 76.70 feet; thence North 00 degrees 05 minutes 40 seconds East 107.86 feet; thence North 15 degrees 58 minutes 15 seconds West 72.27 feet to the East right of way line of High School Road (the following five courses are along said East right of way line): (1) Thence North 00 degrees 05 minutes 40 seconds East 187.65 feet; (2) thence North 04 degrees 40 minutes 33 seconds West 120.25 feet; (3) thence North 00 degrees 05 minutes 40 seconds East 60.00 feet; (4) thence South 89 degrees 07 minutes 34 seconds West 5.00 feet; (5) thence North 00 degrees 05 minutes 40 seconds East 97.89 feet to the POINT OF BEGINNING, containing 12.482 acres, more or less.

Subject to all legal easements, rights of way, and restrictions of record.

Tract 2

Lot Numbered 199 in Arthur V. Browns' Second Section Western Heights, an Addition to the City of Indianapolis, as per plat thereof recorded in Plat Book 15, page 152 in the Office of the Recorder of Marion County, Indiana, containing 0.275 acre, more or less.

Subject to all legal easements, rights of way, and restrictions of record.

Tract 3

Lots Numbered 241, 242, 243, 244, 245, 246, 247, 248, 249, and 250 in Arthur V. Brown's Second Section Western Heights, an Addition to the City of Indianapolis, as per plat thereof recorded in Plat Book 15, page 152, in the Office of the Recorder of Marion County, Indiana, containing 2.872 acres, more or less.

Tract 4

Parts of Lots 253, 254, 255, 256, 257, 258, and 259 in Arthur V. Brown's Second Section Western Heights, on Addition to the City of Indianapolis, as per plat thereof recorded in Plat Book 15, page 152 in the Office of the Recorder of Marion County, Indiana, the perimeter of which is more particularly described as follows:

BEGINNING at the Northwest corner of said Lot 259; thence North 89 degrees 07 minutes 34 seconds East along the North line of said lot 140.18 feet to the West right of way line of Interstate 465 per INDOT plans for Project No. IM-465-4(355); thence South 00 degrees 14 minutes 24 seconds West along said West right of way line 420.02 feet to the South lien of said Lot 253; thence South 89 degrees 07 minutes 34 seconds West along said South lien 139.11 feet to the Southwest corner thereof and the East line of a 14 foot alley; thence North 00 degrees 05 minutes 40 seconds East along said East line 420.000 feet to the POINT OF BEGINNING, containing 1.346 acres, more or less.

Subject to all legal easements, rights of way, and restrictions of record.

Issued in Des Plaines, Illinois, on November 16, 2016.
James G. Keefer,
Manager, Chicago Airports District Office FAA, Great Lakes Region.

[FR Doc. 2016-29232 Filed 12-5-16; 8:45 am]

BILLING CODE 4910-13-P